SECURITIES AND EXCHANGE COMMISSION

Sunshine Act Meetings

TIME AND DATE: Notice is hereby given, pursuant to the provisions of the Government in the Sunshine Act, Public Law 94-409, that the Commission will host the SEC Government-Business Forum on Small Business Capital Formation on Wednesday, December 12, 2018, beginning at 9:00 a.m. Eastern Time.

PLACE: The forum will be held at the Fawcett Center on the campus of The Ohio State University, 2400 Olentangy River Road, Columbus, Ohio 43210.

STATUS: This meeting will be open to the public. The meeting will be webcast on the Commission's website at www.sec.gov.

MATTERS TO BE CONSIDERED: The forum will include remarks by SEC Commissioners and two morning panel discussions that Commissioners will attend. The panel discussions will explore how capital formation options are working for small businesses, such as those in the Midwest, and capital formation and diversity. This Sunshine Act notice is being issued because a majority of the Commission may attend the meeting.

CONTACT PERSON FOR MORE INFORMATION: For further information and to ascertain what, if any, matters have been added, deleted or postponed; please contact Brent J. Fields from the Office of the Secretary at (202) 551-5400.

Dated: December 4, 2018.
Brent J. Fields,
Secretary.

[FR Doc. 2018-26738 Filed 12-6-18; 11:15 am]

BILLING CODE 8011-01-P